DEPARTMENT OF HEALTH AND HUMAN SERVICES

Food and Drug Administration

21 CFR Part 175

Indirect Food Additives: Adhesives and Components of Coatings

CFR Correction

In Title 21 of the Code of Federal Regulations, Parts 170 to 199, revised as of April 1, 2013, on page 196, in § 175.320, in paragraph (c), in the first sentence, revise “tables 1 and 2 of § 176.17(c)” to read “tables 1 and 2 of § 176.170(c)”.

[FR Doc. 2013-20702 Filed 8-22-13; 8:45 am]

BILLING CODE 1505-01-D